FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 940. Interested parties may submit comments on an agreement to the Secretary, Federal Maritime Commission, Washington, DC 20573, within 10 days of the date this notice appears in the Federal Register.

Agreement No.: 011803.

Title: Maersk Sealand/Evergreen Slot Exchange Agreement.

Parties: A.P. Moller-Maersk Sealand, Evergreen Marine Corporation (Taiwan) Ltd.

Synopsis: The proposed agreement would authorize Maersk Sealand to charter slots on Evergreen's WAE service from East Asia to Tacoma and Evergreen to charter slots on Maersk Sealand's MECL service from India and Sri Lanka to the U.S. East Coast. The parties request expedited review.

Agreement No.: 011804.

Title: Eastern Car Liner/FOML Space Charter Agreement.

Parties: Eastern Car Liner, Ltd., Fesco Ocean Management Limited.

Synopsis: The proposed agreement would authorize Fesco Ocean Management to charter space from Eastern Car Liner from Japan to the U.S. Pacific Coast on an ad hoc basis, as needed and as available.

Agreement No.: 011805.

Title: Trans-Pacific Lines/Wan Hai Reciprocal Slot Charter Agreement.

Parties: Trans-Pacific Lines Ltd., Wan Hai Lines Ltd.

Synopsis: The agreement authorizes the two parties to exchange container slots on their respective vessels in the trade between the U.S. West Coast and Korea, China and Taiwan.

Agreement No.: 201072-004.

Title: New Orleans-Americana Ships Group Crane Lease.

Parties: Board of Commissioners of the Port of New Orleans, Americana Ships and its affiliates.

Synopsis: The amendment changes the payments for crane usage and updates the name of one of the parties. The agreement continues to run through December 31, 2002.

Agreement No.: 201134.

Title: New Orleans-Mediterranean Shipping Terminal Agreement.

Parties: Board of Commissioners of the Port of New Orleans, Mediterranean Shipping Co. (USA) Inc.

Synopsis: The agreement provides for volume discounts at the France Road and Nashville Avenue Container Terminals. The agreement runs through December 31, 2002.

Dated: May 10, 2002.
By Order of the Federal Maritime Commission
Bryant L. VanBrakle,
Secretary.

[FR Doc. 02-12163 Filed 5-14-02; 8:45 am]

BILLING CODE 6730-01-P